FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 12, 2015.

A. Federal Reserve Bank of Atlanta (Chapelle Davis, Assistant Vice President) 1000 Peachtree Street NE., Atlanta, Georgia 30309:

1. John D. McLanahan, Jr. Children's Trust, with John D. McLanahan, Jr., as trustee; C. Rhodes McLanahan II Children's Trust, with C. Rhodes McLanahan II, as trustee; and Margaret D. McLanahan, all of Athens, Georgia; and Margaret M. Staton Children's Trust, with Margaret M. Staton, as trustee; Drennen M. Farley Children's Trust, with Drennen M. Farley, as trustee; Brandon T. Farley, and John C. Staton, III; all of Atlanta, Georgia; to join the McLanahan Family control group, and acquire voting shares of First American Bancorp, and thereby indirectly acquire voting shares of First American Bank and Trust Company, both in Athens, Georgia.

Board of Governors of the Federal Reserve System, April 22, 2015.
Michael J. Lewandowski,
Associate Secretary of the Board.

[FR Doc. 2015-09732 Filed 4-24-15; 8:45 am]

BILLING CODE 6210-01-P